SMALL BUSINESS ADMINISTRATION

13 CFR Part 121

Small Business Size Regulations

CFR Correction

In Title 13 of the Code of Federal Regulations, revised as of January 1, 2009, on page 357, in § 121.201, in the table “Small Business Size Standards by NAICS Industry”, under Sector 54, Subsector 541, remove the three subentries under NAICS code 541712, beginning with the word “EXCEPT,”.

[FR Doc. E9-30503 Filed 12-21-09; 8:45 am]

BILLING CODE 1505-01-D